ENVIRONMENTAL PROTECTION AGENCY

40 CFR Parts 52 and 81

[MO 114-1114a; FRL-6885-6]

Approval and Promulgation of Implementation Plans; State of Missouri; Designation of Areas for Air Quality Planning Purposes, Dent Township

AGENCY: Environmental Protection Agency (EPA).

ACTION: Direct final rule.

SUMMARY: EPA is announcing the redesignation of the lead nonattainment area in western Iron County, Missouri, to attainment of the National Ambient Air Quality Standards (NAAQS). We are approving the maintenance plan for this area including a consent order which was submitted with the redesignation request, and we are also approving the revision to Missouri's Restriction of Emissions of Lead From Specific Lead Smelter-Refinery Installations rule which ensures the permanent and enforceable emission reductions by clarifying the emissions limits for the Doe Run Resource Recycling Facility, and removes the text which could have allowed this facility to resume operation as a primary smelter.

DATES: This rule is effective on December 18, 2000 without further notice, unless EPA receives adverse written comment by November 17, 2000. If EPA receives such comments, it will publish a timely withdrawal of the direct final rule in the Federal Register and inform the public that the rule will not take effect.

ADDRESSES: Written comments must be submitted to Kim Johnson, Air Planning and Development Branch, 901 North 5th Street, Kansas City, Kansas 66101.

Copies of documents relative to this action are available for public inspection during normal business hours at the above listed Region 7 location. The interested persons wanting to examine these documents should make an appointment with the office at least 24 hours in advance.

FOR FURTHER INFORMATION CONTACT: Kim Johnson at (913) 551-7975.

SUPPLEMENTARY INFORMATION: Throughout this document whenever “we, us, or our” is used, we mean EPA. This section provides additional information by addressing the following questions:

What Is a State Implementation Plan (SIP)?

What is the Federal approval process for a SIP?

What does Federal approval of a state regulation mean to me?

What requirements must be followed for redesignations to attainment?

What is being addressed in this document?

Have the requirements for approval of a SIP revision and redesignation to attainment been met?

What action is EPA taking?

What Is a State Implementation Plan (SIP)?

Section 110 of the Clean Air Act (CAA) requires states to develop air pollution regulations and control strategies to ensure that state air quality meets the national ambient air quality standards established by EPA. These ambient standards are established under section 109 of the CAA, and they currently address six criteria pollutants. These pollutants are: carbon monoxide, nitrogen dioxide, ozone, lead, particulate matter, and sulfur dioxide.

Each state must submit these regulations and control strategies to EPA for approval and incorporation into the Federally enforceable SIP.

Each Federally approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by EPA under section 110 of the CAA are incorporated into the Federally approved SIP. Records of such SIP actions are maintained in the Code of Federal Regulations (CFR) at Title 40, part 52, entitled “Approval and Promulgation of Implementation Plans.” The actual state regulations which are approved are not reproduced in their entirety in the CFR outright but are “incorporated by reference,” which means that we have approved a given state regulation with a specific effective date.

What does Federal approval of a state regulation mean to me?

Enforcement of the state regulation before and after it is incorporated into the Federally approved SIP is primarily a state responsibility. However, after the regulation is Federally approved, we are authorized to take enforcement action against violators. Citizens are also offered legal recourse to address violations as described in section 304 of the CAA.

What requirements must be followed for redesignation to attainment?

Under section 307(d) of the CAA, we are required to promulgate designations of areas identifying their status with respect to attainment of the ambient standards described previously. We are required to determine whether each area is attaining the standard, not attaining the standard, or cannot be designated based on available information. Once an area is designated as nonattainment for a standard, it cannot be redesignated to attainment until the requirements of section 107(d)(3)(E) of the CAA are met. These requirements are discussed below, and include a revision to the SIP to show how the state, in which the area is located, plans to maintain the standards in the future in the area to be redesignated to attainment.

What is being addressed in this document?

We are redesignating the nonattainment area in western Iron County, Missouri, to attainment for lead and taking final action to approve the submission for the Doe Run Resource Recycling Facility near Bixby, Missouri, as an amendment to the SIP.

We are also taking final action to approve the revision to rule 10 CSR 10-6.120, Restriction of Emissions of Lead From Specific Lead Smelter-Refinery Installations, as an amendment to the SIP.

The basis for our approval of the rule is described in this notice, and in more detail in the technical support document (TSD) prepared for this action. The TSD is available at the address identified above.

The purpose of the submittal is to meet the criteria under section 107(d)(3) of the Clean Air Act Amendments (CAAA) for redesignation of the nonattainment area in western Iron County to attainment for the lead standard.

The area was designated as nonattainment for lead in November 1991, effective January 6, 1992. The boundaries of the nonattainment area follow the Dent Township in western Iron County, Missouri. The major source of lead emissions in this nonattainment area is the Doe Run Resource Recycling Facility, near Bixby, Missouri.

Primary smelting of lead began at this location in 1968, but the current facility ceased operation as a primary smelter in 1988 and has been operating as a secondary smelter and resource recovery operation since 1991.

Section 107(d)(3) of the CAAA establishes the five requirements to be met before we can designate an area from nonattainment area to attainment. These are:

A. The area has attained the NAAQS;

B. The area has a fully approved SIP under section 110(k) of the act;

C. We have determined that the improvement in air quality is due to permanent and enforceable emissions reductions;

D. We have determined that the maintenance plan for the area has met the requirements of section 175A of the Act and;

E. The state has met all requirements applicable to the area under section 110 and part D.

Attainment of the NAAQS

The state submittal provided ambient air monitor data showing that this area has consistently shown compliance with the NAAQS for lead since the second quarter of 1988. The NAAQS for lead is 1.5 micrograms per cubic meter (1.5 μg/m³, maximum quarterly average. A quarterly average is considered a violation of the standard if it is at least 1.6 μg/m³ when rounded to the tenths from the hundredths place when monitored.

Air dispersion modeling using the ISCST Version 3 dated June 24, 1999, was used to evaluate the concentration of lead resulting from operations at the Doe Run Resource Recycling Facility. The maximum concentration predicted by the model was a value of 0.73 μg/m³ which is in compliance with the lead standard.

Fully Approved SIP

Missouri submitted part D nonattainment SIPs for the Doe Run Resource Recycling Facility and its predecessor in 1980 and in 1993 and 1994. The SIPs established emission, operational and work practice standards. These requirements included enforceable throughput and emission point limits, identified emission control projects that the facility would have to complete prior to processing lead concentration and producing primary lead, and established contingency measures to reduce fugitive emissions for the secondary process. The 1980 part D nonattainment SIP was approved on April 27, 1981, (46 FR 23412) and the 1993/1994 submission was fully approved under section 110(k) of the CAA, as a revision to the Missouri SIP on August 4, 1995 (60 FR 39851). A detailed discussion of the latter SIP revision can be found in the August 4, 1995, Federal Register notice.

Permanent and Enforceable Emissions Reductions

The permanent and enforceable emission reductions at the Doe Run Resource Recycling Facility include implementation of the part D nonattainment SIP, permanent closure of the primary lead smelting operation, controls on the secondary lead smelting operation, and the installation of reasonably available control technology and reasonably available control measures.

The revision to rule 10 CSR 10-6.120, Restriction of Emissions of Lead From Specific Lead Smelter-Refinery Installations, ensures the permanent and enforceable emission reductions by clarifying the emissions limits for the facility and removing the text which could have allowed this facility to resume operation as a primary smelter. Because no violations of the lead standard have occurred since the facility ceased operation as a primary smelter in 1988, we believe that this clarification will make enforceable the operating scenario which has led to air quality improvements and attainment of the standard.

Fully Approved Maintenance Plan

The maintenance plan submitted as part of the SIP revision provides for maintenance of the relevant NAAQS in the area for at least ten years after the approval of redesignation to attainment.

The maintenance plan for the Doe Run Resources Recycling Facility addresses the monitoring network, the emission inventory, the maintenance demonstration, and verification of continued attainment, as described in more detail in the TSD. The plan also includes contingency measures, which require additional paving and roadway sweeping, and improvements to baghouse controls, to be implemented if monitored violations occur in the future. The contingency measures are specified in the consent order which was approved by MDNR and Doe Run.

Eight years after the redesignation, the state has committed to submit a revised maintenance plan demonstrating attainment for ten years following the initial ten-year period.

Part D and Section 110

The state has met these requirements by submitting and implementing the nonattainment plan to bring the area back into attainment and subsequently by submitting an appropriate maintenance plan to keep the area in attainment, as described previously in this notice and in the TSD.

Rule Revision

The revision to rule 10 CSR 10-6.120, Restriction of Emissions of Lead From Specific Lead Smelter-Refinery Installations, is an important part of the redesignation process for this nonattainment area. The changes to the rule include revising the emissions limits for the Doe Run Resource Recycling Facility and removing all text which could have allowed this facility to resume operation as a primary smelter. Another significant change modifies the title of the rule, consistent with the changes in the body of the rule, so that the rule applies to “specific” lead smelters (including secondary smelters) rather than addressing only “primary” lead smelters.

Have the requirements for approval of a SIP revision and redesignation to attainment been met?

The state submittal has met the public notice requirements for SIP submissions in accordance with 40 CFR 51.102. The submittal also satisfied the completeness criteria of 40 CFR part 51, appendix V. In addition, as explained above and in more detail in the TSD which is part of this document, the revision meets the substantive SIP requirements of the CAA, including section 110 and implementing regulations. The state submittal also meets the criteria for redesignation to attainment in section 107(d)(3) of the CAA, as explained above and in the TSD.

What action is EPA taking?

We are taking final action to approve the submission for the Doe Run Resource Recycling Facility near Bixby, Missouri, as an amendment to the SIP and redesignate the nonattainment area in western Iron County, Missouri, to attainment for lead.

We are also taking final action to approve the revision to rule 10 CSR 10-6.120, Restriction of Emissions of Lead From Specific Lead Smelter-Refinery Installations, as an amendment to the SIP.

We are processing this action as a final action because the revisions make routine changes to the existing rules which are noncontroversial, and because the area has been attaining the lead standard since 1988 based on monitored data. Therefore, we do not anticipate any adverse comments.

Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). This rule approves preexisting requirements under state law. In addition, the redesignation is an action which affects the status of a geographic area but does not impose any new requirements on governmental entities or sources. Therefore, it does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This rule also is not subject to Executive Order 13045 (62 FR 19885, April 23, 1997), because it is not economically significant.

In reviewing SIP submissions, our role is to approve state choices, provided that they meet the criteria of the CAA. In this context, in the absence of a prior existing requirement for the state to use voluntary consensus standards (VCS), we have no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this rule, we have taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. We will submit a report containing this rule and other required information to the United States Senate, the United States House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 18, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Hydrocarbons, Incorporation by reference, Intergovernmental relations, Lead, Nitrogen dioxide, Ozone, Particulate matter, Reporting and recordkeeping requirements, Sulfur oxides.

40 CFR Part 81

Environmental protection, Air pollution control, Lead.

Authority: 42 U.S.C. 7401 et seq.

Dated: September 27, 2000.
Dennis Grams,
Regional Administrator, Region 7.

Chapter I, title 40 of the Code of Federal Regulations is amended as follows:

PART 52—[AMENDED]

1. The authority citation for part 52 continues to read as follows:

Authority: 42 U.S.C. 7401 et seq.

Subpart AA—Missouri

2. Section 52.1320 is amended by:

a. In the table to paragraph (c), Chapter 6, revise the entry for 10-6.120.

The revision reads as follows:

§ 52.1320 Identification of plan.

* * * * *

(c) * * *

EPA-Approved Missouri Regulations
Missouri citation | Title | State effective date | EPA approval date | Explanation
Missouri Department of Natural Resources
* * * * * * *
Chapter 6—Air Quality Standards, Definitions, Sampling and Reference Methods, and Air Pollution Control Regulations for the State of Missouri
* * * * * * *
10-6.120 | Restriction of Emissions of Lead from Specific Lead Smelter-Refinery Installations | October 30, 1998 | [insert FR cite] October 18, 2000
* * * * * * *

b. In the table to paragraph (d), by adding entry “Doe Run Resource Recycling Facility near Buick, Missouri”, immediately before the center heading “St. Louis City Incinerator Permits”.

The addition reads as follows:

§ 52.1320 Identification of plan.

* * * * *

(d) * * *

EPA-Approved Source Specific Permits and Orders
Name of source | Order/permit number | State effective date | EPA approval date | Explanation
* * * * * * *
Doe Run Resource Recycling Facility near Buick, MO | Consent Order | May 11, 2000 | October 18, 2000
* * * * * * *

c. In the table to paragraph (e), by adding entry for Doe Run Resource Recycling Facility at the end of the table.

The addition reads as follows:

§ 52.1320 Identification of plan.

* * * * *

(e) * * *

EPA-Approved Missouri Nonregulatory SIP Provisions
Name of nonregulatory SIP provision | Applicable geographic or nonattainment area | State submitted date | EPA approval date | Explanation
* * * * * * *
Doe Run Resource Recycling Facility near Buick, MO | Dent Township in Iron County | May 17, 2000 | October 18, 2000

PART 81—[AMENDED]

1. The authority citation for part 81 continues to read as follows:

Authority: 42 U.S.C. 7401 et seq.

Subpart C—Section 107 Attainment Status Designations

2. The table in § 81.326 entitled “Missouri Lead” is amended to revise the first entry for Iron County to read as follows:

§ 81.326 Missouri.

* * * * *

Missouri—Lead: Designated area | Missouri—Lead: Designation: Date | Missouri—Lead: Designation: Type | Missouri—Lead: Classification: Date | Missouri—Lead: Classification: Type
Iron County (part) Within boundaries of Dent Township | October 18, 2000 | Attainment

[FR Doc. 00-26501 Filed 10-17-00; 8:45 am]

BILLING CODE 6560-50-P